DEPARTMENT OF THE INTERIOR

Fish and Wildlife Service

[Docket No. FWS-R1-ES-2022-0029; ES11140100000-234-FF01E0000]

Draft Environmental Impact Statement for the Elliott State Research Forest Habitat Conservation Plan in Coos and Douglas Counties, OR; Extension of Public Comment Period

AGENCY: Fish and Wildlife Service, Interior.

ACTION: Notice of availability; extension of public comment period.

SUMMARY: We, the U.S. Fish and Wildlife Service, are extending the public comment period on our November 18, 2022, notice that announced our draft environmental impact statement evaluating two incidental take permit (ITP) applications received from the Oregon Department of State Lands (ODSL). The ITP applications include the ODSL's Elliott State Research Forest Habitat Conservation Plan, which is also under review. The applicant is requesting incidental take coverage of northern spotted owl, marbled murrelet, and Oregon Coast coho. Comments previously submitted need not be resubmitted and will be fully considered.

DATES: Comment Period: The comment period for the draft habitat conservation plan and draft environmental impact statement, notice of which was published on November 18, 2022 (87 FR 69291), is extended by 7 days. Comments submitted online at https://www.regulations.gov must be received by 11:59 p.m. Eastern Standard Time on January 10, 2023. Hardcopy comments must be received or postmarked on or before January 10, 2023.

ADDRESSES:

Obtaining Documents: The draft habitat conservation plan and the draft environmental impact statement, along with any comments and other materials submitted to us, are available at https://www.regulations.gov in Docket No. FWS-R1-ES-2022-0029.

Submitting Comments: You may submit comments by one of the following methods:

• Internet: https://www.regulations.gov. Search for and submit comments on Docket No. FWS-R1-ES-2022-0029.

• U.S. mail: Public Comments Processing; Attn: Docket No. FWS-R1-ES-2022-0029; U.S. Fish and Wildlife Service Headquarters, MS: PRB/3W; 5275 Leesburg Pike, Falls Church, VA 22041-3803.

We request that you submit comments by only one of the methods above. We will post all comments on https://www.regulations.gov. This generally means that we will post online any personal information that you provide. For additional information about submitting comments, see Public Availability of Comments under SUPPLEMENTARY INFORMATION.

FOR FURTHER INFORMATION CONTACT: Shauna Everett, by telephone at 503-231-6949, or by email at shauna_everett@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On November 18, 2022 (87 FR 692910), we, the U.S. Fish and Wildlife Service (FWS), announced the availability for public comment of a draft environmental impact statement (DEIS) pursuant to the requirements of the National Environmental Policy Act of 1969, as amended (NEPA; 42 U.S.C. 4321 et seq.), to evaluate applications for incidental take permits (ITPs) received from the Oregon Department of State Lands (ODSL; applicant). ODSL submitted two applications, one for the northern spotted owl (Strix occidentalis) and marbled murrelet (Brachyramphus marmoratus) under FWS jurisdiction and the second application for the Oregon Coast coho (Oncorhynchus kisutch) under National Marine Fisheries Service (NMFS) jurisdiction. NMFS is a cooperating agency under NEPA. In support of the ITP applications, the ODSL prepared the draft Elliott State Research Forest Habitat Conservation Plan (HCP), which we also announced for public review.

With this notice, we are extending the public comment period on the DEIS and HCP (see DATES and ADDRESSES). Further information about the project and Federal process may be found at https://www.fws.gov/project/elliott-state-research-forest-habitat-conservation-plan/.

Public Availability of Comments

You may submit your comments and materials by one of the methods listed in ADDRESSES. Before including your address, phone number, or other personal identifying information in your comment, you should be aware that your entire comment—including your personal identifying information—might be made publicly available at any time. While you can ask us in your comment to withhold your personal identifying information from public review, we cannot guarantee that we will be able to do so. All submissions from organizations or businesses, and from individuals identifying themselves as representatives or officials of organizations or businesses, will be made available for public disclosure in their entirety.

Authority

We provide this notice in accordance with the requirements of section 10(c) of the ESA (16 U.S.C. 1539(c)) and NEPA and its implementing regulations (40 CFR 1503.1 and 1506.6).

Nanette Seto,
Acting Deputy Regional Director, Pacific Region 1, U.S. Fish and Wildlife Service.

[FR Doc. 2022-27610 Filed 12-19-22; 8:45 am]

BILLING CODE 4333-15-P